DEPARTMENT OF ENERGY

Western Area Power Administration

Interconnection for the Keystone Oil Pipeline Project

AGENCY: Western Area Power Administration, DOE.

ACTION: Record of Decision.

SUMMARY: The U.S. Department of Energy (DOE), Western Area Power Administration (Western), announces its decision to modify three existing Western substation facilities and construct one new tap facility to accommodate interconnection requests from Minnkota Power Cooperative, Central Power Electric Cooperative, and East River Electric Power Cooperative (the Applicants). The modifications, construction, and interconnections are connected actions to the TransCanada Keystone Oil Pipeline Project, the environmental impacts of which were analyzed in the Final Environmental Impact Statement for the Keystone Oil Pipeline Project issued by the Department of State (DOS) ¹ and adopted by DOE Western as DOE/EIS-0410 on January 21, 2009.

¹ See Environmental Protection Agency, Notice of Availability, 73 FR 2027 (January 11, 2008).

Western will modify three existing Western facilities: The Lakota Substation, Nelson County, North Dakota; the Forman Substation, Sargent County, North Dakota; the Groton Substation, Brown County, South Dakota; and construct one new facility, the Enderlin Tap facility, Ransom County, North Dakota.

Western has prepared this Record of Decision (ROD) in accordance with the regulations of the Council on Environmental Quality (CEQ) (40 CFR 1500-1508) for implementing the National Environmental Policy Act (NEPA) and DOE's NEPA Implementing Procedures (10 CFR 1021).

ADDRESSES: The Final Environmental Impact Statement (EIS) and project information are available on the DOS Keystone Pipeline Web site at http://www.keystonepipeline.state.gov/clientsite/keystone.nsf?Open. This ROD and the EIS will be available on the DOE NEPA Web site at http://www.gc.energy.gov/NEPA/. In addition, copies of this ROD may be requested by contacting Mr. Nicholas Stas, NEPA Compliance Officer, Western Area Power Administration, P.O. Box 35800, Billings, MT 59107, by telephone at (406) 247-7399, by facsimile at (406) 247-7408, or by electronic mail at stas@wapa.gov.

FOR FURTHER INFORMATION CONTACT: For further information about this ROD, contact Mr. Stas as indicated in the ADDRESSES section above. For information about DOE's NEPA process, contact Ms. Carol M. Borgstrom, Director, NEPA Policy and Compliance, GC-20, U.S. Department of Energy, 1000 Independence Avenue, SW., Washington, DC 20585, telephone (202) 586-4600 or leave a message at (800) 472-2756.

SUPPLEMENTARY INFORMATION: DOS was the lead agency in the preparation of the Final Environmental Impact Statement for the Keystone Oil Pipeline Project. Western participated as a cooperating agency in preparation of this EIS in order to address Western's proposed response to the Applicants' interconnection request requiring modification of three existing substations and construction of one new transmission line tap to support the Keystone Oil Pipeline Project.

Background

Executive Order 13337 (69 FR 2529, May 5, 2004), as amended, delegates to the Secretary of State the President's authority to receive applications for permits for the construction, connection, operation, or maintenance of facilities for the exportation or importation of petroleum, petroleum products, coal, or other fuels at the border of the United States and to issue or deny such Presidential permits. The functions assigned to the Secretary have been further delegated within DOS.

On April 19, 2006, TransCanada Keystone Pipeline, LP (Keystone), filed an application for a Presidential permit for the construction, connection, operation, and maintenance of pipeline facilities at the border of the United States and Canada for the transport of crude oil across the U.S.-Canada international boundary. Keystone is a limited partnership, organized under the laws of the State of Delaware. Keystone is equally owned by TransCanada Corporation, a Canadian public company organized under the laws of Canada, including the Canada Business Corporation Act, and ConocoPhillips Company, a Delaware corporation.

The Keystone Pipeline will transport crude oil from Hardisty, Alberta, Canada, to existing terminals and refineries at Wood River and Patoka, Illinois, (Mainline Project) with an extension via Steele City, Nebraska, to Ponca City and Cushing, Oklahoma (Cushing Extension). As presented in the application, the Mainline Project crosses the U.S.-Canada border at Pembina County, North Dakota, and follows a southern track through North Dakota, South Dakota, and Nebraska. At Steele City, Nebraska, the route of the Mainline Project turns east through the northeast corner of Kansas and crosses Missouri to the terminals in Illinois. The Cushing Extension continues south from Steele City, Nebraska, through Kansas to Ponca City and Cushing, Oklahoma.²

² DOS issued a permit on March 11, 2008, authorizing TransCanada Keystone Pipeline, LP, to construct, connect, operate, and maintain pipeline facilities at border crossing facilities in connection with the Keystone Oil Pipeline Project, which is designed to transport incremental Canadian crude oil production from the Western Canadian Sedimentary Basin to existing terminals in Illinois and Oklahoma.

A portion of the Keystone Oil Pipeline Project is located within Western's Upper Great Plains Region, specifically North Dakota and South Dakota. Minnkota Power Cooperative, Central Power Electric Cooperative, and East River Electric Power Cooperative submitted interconnection requests to Western to serve pumping stations associated with the Keystone Oil Pipeline Project.

Western's connected action is a small part of the overall Keystone Oil Pipeline Project, involving interconnection requests for power to supply only four of the required 23 pumping stations. Three existing Western substation facilities and one new tap facility were identified as interconnection points to serve the delivery of electricity to the pumping stations. The existing facilities identified were the Lakota Substation, located in Nelson County, North Dakota, the Forman Substation, located in Sargent County, North Dakota, and the Groton Substation, located in Brown County, South Dakota. A new transmission line tap, the Enderlin Tap, will be located in Ransom County, North Dakota, along Western's existing Valley City-Forman 115-kilovolt (kV) transmission line.³

³ Independent of the Keystone Oil Pipeline, these actions normally do not require an Environmental Assessment or Environmental Impact Statement. The actions listed can be classified as classes of actions that DOE has determined do not individually or cumulatively have significant effect on the human environment (categorical exclusions) (10 CFR Pt. 1021, Subpt. D, App. B4.11).

Western's Federal action associated with the Keystone Oil Pipeline Project is approval or denial of the network customers' interconnection request for unplanned load delivery. Western, as the network provider and a balancing authority, is responsible for meeting load growth requests from network customers. In responding to the Applicants' requests, Western must abide by the following:

• Addressing Interconnection Requests. Western's General Requirements for Interconnection establishes a process for addressing applications for interconnection. The process dictates that Western respond to the application as presented by network customers.

• Protecting Transmission System Reliability and Service to Existing Customers. Western's purpose and need is to ensure that existing reliability and service is not degraded. Western's General Requirements for Interconnection provides for transmission and system studies to ensure that system reliability and service to existing customers is not adversely affected. If the existing power system cannot accommodate the applicant's request without modifications or upgrades, the applicant may be responsible for funding the necessary work unless the changes would provide overall system benefits.

Western's purpose and need for action is to respond to the interconnection requests and ensure agency compliance with applicable environmental laws while considering the Applicants' objectives.

NEPA Review

A Notice of Intent to prepare an EIS was published by the DOS in the Federal Register on October 11, 2006 (71 FR 59849). DOS held 13 scoping meetings from October 24, 2006, through November 16, 2006, in the vicinity of the proposed Keystone Oil Pipeline Project route to solicit public comments. The official scoping period ended on November 30, 2006; however, additional comments received after this date were considered in the draft environmental impact statement (Draft EIS). The Keystone Oil Pipeline Project Draft EIS was issued for public review on August 10, 2007. From September 4, 2007, through September 20, 2007, 13 public hearings were held to solicit public comments on the Draft EIS. The public comment period ended on September 24, 2007; however, additional comments were accepted until November 2007. DOE reviewed and provided comments to DOS on the Draft and Final EIS. The Notice of Availability of the Final EIS was published by the Environmental Protection Agency in the Federal Register on January 11, 2008 (73 FR 2027).

Alternatives Considered

The EIS evaluated the proposed Keystone oil pipeline (preferred alternative), the No Action alternative, a Systems alternative, Major Route alternative, Route Variations for the Proposed alternative, and an Aboveground Facility alternative. Western considered alternative sites for its connected actions but dismissed them from consideration, as no viable alternative locations were identified. Therefore, Western limited its analysis to the interconnection requests along the preferred alternative route the Applicants submitted for approval.

Under the No Action alternative, the Keystone Oil Pipeline Project would not be built and Western would not grant the Applicant's request to interconnect to Western's transmission system. Western would not modify the three existing substation facilities nor construct one transmission line tap facility. Without Western's actions, existing environmental conditions at the four locations would remain unchanged.

Environmentally Preferred Alternative

Western evaluated the alternatives to determine which is environmentally preferred, as required under 40 CFR 1505.2(b). The No Action alternative is the environmentally preferred alternative because no new disturbance would result. No impacts to environmental or social resources would occur. The No Action alternative would not, however, meet the Applicants' objectives.

Consultation

The DOS is the lead Federal agency for Keystone Oil Pipeline Project compliance with section 106 of the National Historic Preservation Act (NHPA) and Tribal consultation for all components of the Project. Western is responsible for compliance of its own actions with section 106 of the NHPA. Western reviewed the Lakota Substation, Forman Substation, and Groton Substation interconnection requests and determined the modifications would take place within the existing facility boundaries; therefore, no consultation would be required. Western reviewed the Enderlin Tap interconnection request and determined consultation was required. Western consulted with the North Dakota State Historic Preservation Officer (North Dakota SHPO) for the Enderlin Tap facility. Concurrence was received from the North Dakota SHPO for the Enderlin Tap facility on December 17, 2008. Western also evaluated the location of its action in relation to tribal lands. No tribal lands will be impacted by the Western action.

The DOS is also the lead for Keystone Oil Pipeline Project compliance with section 7 of the Endangered Species Act (ESA) (16 U.S.C. 1536). Western is responsible for compliance of its own actions with section 7 of the ESA. Western committed in a letter dated February 7, 2008, to the U.S. Fish and Wildlife Service (USFWS) of the Department of the Interior to complete the ESA section 7 consultation prior to committing any resources or authorizing electrical infrastructure for the Keystone Project. Western determined that its actions would not affect the listed species for Nelson, Sargent, and Ransom counties, North Dakota, and Brown County, South Dakota. These species include the gray wolf, whooping crane, Topeka shiner, western prairie fringed orchid, Eskimo curlew, and Dakota skipper. Western's determination was submitted to the USFWS in a letter dated December 16, 2008. Concurrence was received from the South Dakota Field Office of the USFWS on December 30, 2008, and from the North Dakota Field Office of the USFWS on January 9, 2009.

Adoption

Western adopted the Final Environmental Impact Statement for the Keystone Oil Pipeline Project as DOE/EIS-0410 on January 21, 2009. Per CEQ regulations at 40 CFR 1506.3(c), Western did not re-circulate the EIS because its comments and suggestions on the EIS content were satisfied. Western acknowledges that the EIS is the subject of two judicial actions, Natural Resources Defense Council v. U.S. Department of State, No. 08-CV-01363 (D.D.C., filed Aug. 6, 2008), and The Sisseton-Wahpeton Oyate v. U.S. Department of State, No. 08-3023 (D.S.D., filed Nov. 24, 2008), which are not final (40 CFR 1506.3(d)).

Decision

Western has decided to grant the Applicants' request to interconnect with Western's transmission system at the existing substations in Nelson and Sargent counties, North Dakota, and Brown County, South Dakota, as well as the new Ransom County, North Dakota, facility. The actions would meet the Applicants' objectives to serve four pumping stations for the Keystone Oil Pipeline Project in North Dakota and South Dakota. Construction, operation, and maintenance of the actions would not result in significant short- or long-term environmental impacts.

Western will modify the existing Lakota Substation, Nelson County, North Dakota, to include upgrading the existing 69-kV transformer and ancillary electrical substation equipment to provide load delivery. The previously disturbed existing footprint of the Lakota Substation will not change with the upgrade.

Western will modify the existing Forman Substation, Sargent County, North Dakota, to include the addition of a 115-kV bay and ancillary electrical substation equipment to provide load delivery. The previously disturbed existing footprint of the Forman Substation will not change with the upgrade.

Western will modify the existing Groton Substation, Brown County, South Dakota, to include the addition of a 115-kV bay and ancillary electrical substation equipment to provide load delivery. The previously disturbed existing footprint of the Groton Substation will not change with the upgrade.

Western will construct the new Enderlin Tap facility, Ransom County, North Dakota on Western's existing Valley City-;Forman 115-kV transmission line to provide load delivery. A transmission line tap is the connection of a new transmission line to an existing transmission line for the purposes of supplying electricity to a new location. The Enderlin Tap facility consists of the connection between the Valley City-Forman 115-kV transmission line and the transmission line serving the pumping station. The tap would be at an existing transmission line pole structure. The tap would not result in any long-term disturbance.

Western's connected action will not involve Western constructing or modifying any transmission lines. Transmission system studies conducted by Western confirmed that no new transmission lines or upgrades to Western's grid are required. Western's action would not impact any wetlands or floodplains.

Mitigation

Western will employ all practical means to avoid or minimize environmental harm as a result of the connected actions. Western adopts the mitigation measures documented in section 3.4.3.1 of the EIS. These measures include:

• Western or its contractor will exercise care to preserve the natural landscape and will conduct construction operations so as to prevent any unnecessary destruction, scarring, or defacing of the natural surroundings in the vicinity of the work. Except where clearing is required for permanent works, approved construction roads, or excavation operations, all trees, native shrubbery, and vegetation will be preserved and will be protected from damage by construction operations and equipment.

• All construction equipment and vehicles will be pressure-washed (especially the undercarriage) to remove foreign soil and debris that may introduce weeds into the Project areas.

• If revegetation is required, regionally native plants will be used.

Basis for Decision

Western has determined that the potential environmental impacts from its connected actions, with implementation of the mitigation measures, are expected to be insignificant. Western did not select the No Action alternative because it would not meet the Applicants' objectives. In reaching this decision, Western considered the low environmental impacts in the U.S. from modifying the three substations and construction of one tap facility as connected actions to the Keystone Oil Pipeline Project.

Dated: February 13, 2009.
Timothy J. Meeks,
Administrator

[FR Doc. E9-3655 Filed 2-19-09; 8:45 am]

BILLING CODE 6450-01-P